DEPARTMENT OF TRANSPORTATION

Federal Aviation Administration

14 CFR Part 71

Proposed Modification of the Dallas/Fort Worth, TX Class B Airspace Area; Public Meetings

AGENCY: Federal Aviation Administration (FAA), DOT.

ACTION: Meetings.

SUMMARY: This notice announces four fact-finding informal airspace meetings to solicit information from airspace users and others concerning a proposal to revise the Class B airspace area at Dallas/Fort Worth, TX. The purpose of these meetings is to provide interested parties an opportunity to present views, recommendations, and comments on the proposal. All comments received during these meetings will be considered prior to any revision or issuance of a notice of proposed rulemaking.

DATES: The informal airspace meetings will be held on Monday, November 3, 2008, at 5 p.m., Thursday, November 6, 2008, at 5 p.m., Thursday, November 13, 2008, at 5 p.m., and Tuesday, November 18, 2008, at 5 p.m. Comments must be received on or before November 26, 2008.

ADDRESSES: (1) The meeting on Monday, November 3, 2008, will be held at Lancaster Recreation Center, 1700 Veterans Memorial Parkway, Lancaster, TX 75134. (2) The meeting on Thursday, November 6, 2008, will be held at Cavanaugh Flight Museum, 4572 Claire Chennault Drive, Addison, TX 75001. (3) The meeting on Thursday, November 13, 2008, will be held at 5000 Airport Road, Denton, TX 76205-0207. (4) The meeting on Tuesday, November 18, 2008, will be held at Mesquite Airport Terminal Building, 1340 Airport Boulevard, Mesquite, TX 75181.

Comments: Send comments on the proposal to: Don Smith, Manager, Operations Support Group, Air Traffic Organization Central Service Area, Federal Aviation Administration, 2601 Meacham Boulevard, Fort Worth, TX 76137, or by fax to (817) 222-5547.

FOR FURTHER INFORMATION CONTACT: Robert Beck, DFW ATCT/TRACON, Dallas/Fort Worth International Airport, 2401 International Parkway, Dallas/Fort Worth Airport, TX 75261; Telephone (972) 615-2530.

SUPPLEMENTARY INFORMATION: (a) The meetings will be informal in nature and will be conducted by one or more representatives of the FAA Central Service Center. A representative from the FAA will present a formal briefing on the planned modification to the Class B airspace at Dallas/Fort Worth, TX. Each participant will be given an opportunity to deliver comments or make a presentation. Only comments concerning the plan to modify the Class B airspace area at Dallas/Fort Worth, TX, will be accepted.

(b) The meetings will be open to all persons on a space-available basis. There will be no admission fee or other charge to attend and participate.

(c) Any person wishing to make a presentation to the FAA panel will be asked to sign in and estimate the amount of time needed for such presentation. This will permit the panel to allocate an appropriate amount of time for each presenter. These meetings will not be adjourned until everyone on the list has had an opportunity to address the panel.

(d) Position papers or other handout material relating to the substance of these meetings will be accepted. Participants wishing to submit handout material should present an original and two copies (3 copies total) to the presiding officer. There should be additional copies of each handout available for other attendees.

(e) These meetings will not be formally recorded.

Agenda for the Meetings

—Sign-in.

—Presentation of Meeting Procedures.

—FAA explanation of the planned Class B modifications.

—Solicitation of Public Comments.

—Closing Comments.

Authority: 49 U.S.C. 106(g), 40103, 40113, 40120; E.O. 10854, 24 FR 9565, 3 CFR, 1959-1963 Comp., p. 389.

Issued in Washington, DC, on August 13, 2008.
Edith V. Parish,
Manager, Airspace and Rules Group.

[FR Doc. E8-19275 Filed 8-25-08; 8:45 am]

BILLING CODE 4910-13-P